DEPARTMENT OF COMMERCE

Patent and Trademark Office

Patent Law Treaty

ACTION: Notice and request for comment.

SUMMARY: The United States Patent and Trademark Office (USPTO), as part of its continuing effort to reduce paperwork and respondent burden, invites the general public and other Federal agencies to comment on the extension of a continuing information collection, as required by the Paperwork Reduction Act of 1995, Public Law 104-13 (44 U.S.C. 3506(c)(2)(A)).

DATES: Written comments must be submitted on or before October 21, 2016.

ADDRESSES: You may submit comments by any of the following methods:

• Email: InformationCollection@uspto.gov. Include “0651-0073 comment” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Raul Tamayo, Senior Legal Advisor, Office of Patent Legal Administration, United States Patent and Trademark Office (USPTO), P.O. Box 1450, Alexandria, VA 22313-1450; by telephone at 571-272-7728; or by email at Raul.Tamayo.uspto.gov with “0651-0073 comment” in the subject line. Additional information about this collection is also available at http://www.reginfo.gov under “Information Collection Review.”

SUPPLEMENTARY INFORMATION:

I. Abstract

The Patent Law Treaties Implementation Act of 2012 (PLTIA) amends the patent laws to implement the provisions of the Patent Law Treaty (PLT) in title II. The PLT harmonizes and streamlines formal procedures pertaining to the filing and processing of patent applications.

By a final rule titled “Changes to Implement the Patent Law Treaty” (RIN 0651-AC85) and published in the Federal Register on October 21, 2013, the USPTO revised the rules of practice for consistency with the changes in the PLT and title II of the PLTIA. One notable change pertains to the restoration of the right of priority to a foreign application or the benefit of a provisional application in a subsequent application filed within two months of the expiration of the twelve-month period (six-month period for design applications) for filing such a subsequent application. The information in this collection relates to the petitions for restoration that may be filed in accordance with the revised rules.

The information in this collection can be submitted electronically through EFS-Web, the USPTO's Web-based electronic filing system, as well as on paper. The USPTO is therefore accounting for both electronic and paper submissions in this collection.

II. Method of Collection

Electronically if applicants submit the information using EFS-Web. By mail or hand delivery in paper form.

III. Data

OMB Number: 0651-0073.

Form Number(s): No form numbers.

Type of Review: Revision of a currently approved collection.

Affected Public: Individuals or households; businesses or other for-profits; and not-for-profit institutions.

Estimated Number of Respondents: 500 responses per year. The USPTO estimates that 120 responses will be received from small entities. Approximately 98% of the total responses for this collection will be submitted electronically.

Estimated Time per Response: The USPTO estimates it will take approximately 60 minutes (1 hour) to complete the information in this collection, including the time it takes for reading the instructions for the forms, gathering the necessary information, completing the forms, and submitting them to the USPTO. The time per response, estimated annual responses, and estimated annual hour burden associated with each instrument in this collection are shown in the table below.

Estimated Total Annual Respondent Burden Hours: 500 hours.

Estimated Total Annual Respondent (Hourly) Cost Burden: $205,000.00. The USPTO expects that attorneys in private firms will complete these applications. The professional hourly rate for attorneys is $410. Using this hourly rate, the USPTO estimates that the total respondent cost burden for this collection is [AMOUNT] per year.

IC No. | Item | Hours | Responses (yr) | Burden (hrs/yr) | Rate ($/hr) | Total cost burden
|  | (a) | (b) | (c) (a × b) | (d) | (e) (c × d)
1 | Petition to Restore the Right of Priority under 37 CFR 1.55(b)(2) | 1 | 250 | 250 | $410.00 | $102,500.00
2 | Petition to Restore the Benefit of a Prior-Filed Provisional Application under 37 CFR 1.7(a)(1)(ii) | 1 | 250 | 250 | 410.00 | 102,500.00
| Total |  | 500 | 500 |  | 205,000.00

Estimated Total Annual (Non-hour) Respondent Cost Burden: $748,064.50, based on filing fees and postage costs.

Filing Fees

There are filing fees associated with this collection. The items with filing fees are listed in the table below.

IC No. | Item | Estimated annual responses | Filing fee ($) | Total non-hour cost burden ($)
|  | (a) | (b) | (a) × (b) = (c)
1 | Grantable Petition to Restore the Right of Priority under 37 CFR 1.55(b)(2) | 190 | $1,700.00 | $323,000.00
2 | Grantable Petition to Restore the Right of Priority under 37 CFR 1.55(b)(2)(small entity) | 60 | 850.00 | 51,000.00
3 | Grantable Petition to Restore the Benefit of a Prior-Filed Provisional Application under 37 CFR 1.78(a)(1)(ii) | 190 | 1,700.00 | 323,000.00
4 | Grantable Petition to Restore the Benefit of a Prior-Filed Provisional Application under 37 CFR 1.78(a)(1)(ii) (small entity) | 60 | 850.00 | 51,000.00
| Total | 500 |  | 748,000.00

The USPTO estimates that the total non-hour cost burden associated with the filing fees for this collection will be $748,000.00

Postage Costs

Customers may incur postage costs when submitting some of the items covered by this collection to the USPTO by mail. The USPTO expects that approximately 98 percent of the responses in this collection will be submitted electronically. Of the remaining 2 percent, the vast majority (98%) will be submitted by mail, for a total of 10 mailed submissions. The average first class USPS postage cost for a one-pound mailed submission in a flat-rate envelope is $6.45. The USPTO estimates that the postage costs for the mailed submissions in this collection will total $64.50.

Therefore, the USPTO estimates that the total annual (non-hour) cost burden for this collection, in the form of fees and postage is $748,064.50 per year.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Dated: August 16th, 2016.
Marcie Lovett,
Records Management Division Director, USPTO, Office of the Chief Information Officer.

[FR Doc. 2016-19863 Filed 8-19-16; 8:45 am]

BILLING CODE 3510-16-P